DEPARTMENT OF LABOR

Office of the Secretary

Agency Information Collection Activities; Submission for OMB Review; Comment Request; Hazardous Waste Operations and Emergency Response

ACTION: Notice.

SUMMARY: On June 30, 2012, the Department of Labor (DOL) will submit the Occupational Safety and Health Administration (OSHA) sponsored information collection request (ICR) titled, “Hazardous Waste Operations and Emergency Response,” to the Office of Management and Budget (OMB) for review and approval for continued use in accordance with the Paperwork Reduction Act (PRA) of 1995 (44 U.S.C. 3501 et seq.).

DATES: Submit comments on or before July 30, 2012.

ADDRESSES: A copy of this ICR with applicable supporting documentation; including a description of the likely respondents, proposed frequency of response, and estimated total burden may be obtained from the RegInfo.gov Web site, http://www.reginfo.gov/public/do/PRAMain, on or after July 1, 2012, or by contacting Michel Smyth by telephone at 202-693-4129 (this is not a toll-free number) or sending an email to DOL_PRA_PUBLIC@dol.gov.

Submit comments about this request to the Office of Information and Regulatory Affairs, Attn: OMB Desk Officer for DOL-OSHA, Office of Management and Budget, Room 10235, 725 17th Street NW., Washington, DC 20503, Telephone: 202-395-6929/Fax: 202-395-6881 (these are not toll-free numbers), email: OIRA_submission@omb.eop.gov.

Authority: 44 U.S.C. 3507(a)(1)(D).

FOR FURTHER INFORMATION CONTACT: Contact Michel Smyth by telephone at 202-693-4129 (this is not a toll-free number) or by email at DOL_PRA_PUBLIC@dol.gov.

SUPPLEMENTARY INFORMATION: The Hazardous Waste Operations and Emergency Response (HAZWOPER) Standard specifies a number of information collection requirements. Employers can use the information collected under the HAZWOPER rule to develop the various programs the Standard requires and to ensure that workers are trained properly about the safety and health hazards associated with hazardous waste operations and emergency response to hazardous waste releases. The OSHA uses the records developed in response to this Standard to determine adequate compliance with the Standard's safety and health provisions. An employer's failure to collect and distribute the information required in this Standard would significantly affect OSHA efforts to control and reduce injuries and fatalities. Such failure would also be contrary to the direction Congress provided in the Superfund Amendments and Reauthorization Act.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. The DOL obtains OMB approval for this information collection under Control Number 1218-0202. The current approval is scheduled to expire on June 30, 2012; however, it should be noted that existing information collection requirements submitted to the OMB receive a month-to-month extension while they undergo review. For additional information, see the related notice published in the Federal Register on April 30, 2012 (77 FR 25500).

Interested parties are encouraged to send timely comments to the OMB, Office of Information and Regulatory Affairs at the address shown in the ADDRESSES section of this notice. In order to help ensure appropriate consideration, comments should mention OMB Control Number 1218-0202. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OSHA.

Title of Collection: Hazardous Waste Operations and Emergency Response.

OMB Control Number: 1218-0202.

Affected Public: Private Sector—businesses or other for-profits.

Total Estimated Number of Respondents: 30,125.

Total Estimated Number of Responses: 1,205,700.

Total Estimated Annual Burden Hours: 1,198,573.

Total Estimated Annual Other Costs Burden: $3,059,864.

Dated: June 25, 2012.
Michel Smyth,
Departmental Clearance Officer.

[FR Doc. 2012-15855 Filed 6-27-12; 8:45 am]

BILLING CODE 4510-26-P